DEPARTMENT OF JUSTICE

Antitrust Division

Notice Pursuant to the National Cooperative Research and Production Act of 1993—Steel Door Institute

Notice if hereby given that, on September 17, 2004, pursuant to section 6(a) of the National Cooperative Research and Production Act of 1993, 15 U.S.C. 4301 et seq. (“the Act”), the Steel Door Institute (“SDI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Steel Door Institute, Cleveland, OH. The nature and scope of SDI's standards development activities are: SDI acts as secretariat for the ANSI A250 Committee, which develops standards for dimension, nomenclature, construction, performance, testing, and installation of steel doors and frames used in residential and commercial construction.

Dorothy B. Fountain,
Deputy Director of Operations, Antitrust Division.

[FR Doc. 04-23778 Filed 10-22-04; 8:45 am]

BILLING CODE 4410-11-M